DEPARTMENT OF TRANSPORTATION

Federal Highway Administration

Notice of Intent To Prepare an Environmental Impact Statement (EIS): Dane and Columbia Counties, Wisconsin

AGENCY: Federal Highway Administration (FHWA), Wisconsin Department of Transportation (WisDOT), DOT.

ACTION: Federal Notice of Intent to Prepare an Environmental Impact Statement (EIS).

SUMMARY: The FHWA is issuing this notice to advise the public that an EIS will be prepared for a proposed freeway corridor improvement project on I-39/90/94 from the US 12/18 Interchange to the I-39/WIS 78 interchange in Dane and Columbia Counties in south-central Wisconsin.

FOR FURTHER INFORMATION CONTACT: Tracey Blankenship, Major Projects Program Manager, Federal Highway Administration, 525 Junction Road, Suite 8000, Madison, Wisconsin, 53717-2157, Telephone: (608) 829-7510.

SUPPLEMENTARY INFORMATION: The FHWA, in cooperation with the Wisconsin Department of Transportation (WisDOT), will prepare an EIS for proposed improvements in the I-39/90/94 corridor and adjacent local road systems from the US 12/18 interchange (Madison Beltline interchange) to the I-39/WIS 78 interchange (south of Portage), approximately 35 miles. The project limits also include WIS 30 from East Washington Avenue to I-39/90/94, I-94 from I-39/90 to County N, US 151 from I-39/90/94 to Main Street in Sun Prairie, and the I-39/90/94, US 51 & WIS 19 triangle in DeForest, including operational areas of influence at each interchange. The purpose of this project is to address bridge structural needs including replacement of the Wisconsin River crossing; highway and roadside safety issues and design deficiencies; accommodate existing and projected traffic volumes; and improve the transportation system's ability to support local and regional tourism economies. The EIS will evaluate a range of alternatives for the I-39/90/94 mainline and system interchanges, adjacent arterial roads, and connections to the local road network. The EIS will be prepared in accordance with 23 U.S.C. 139, 23 CFR771, and 40 CFR parts 1500-1508. Completion of the draft EIS is expected in 2017, and the final EIS in 2019.

Public involvement is a critical component of the National Environmental Policy Act (NEPA) and will occur throughout the development of the draft and final EIS. All environmental documents will be made available for review by federal and state resource agencies and the public. Specific efforts to encourage involvement by, and solicit comments from, minority and low-income populations in the project study area will be made, with public involvement meetings held throughout the environmental document process. Public notice will be given as to the time and place of public involvement meetings. A public hearing will be held after the completion of the Draft EIS.

Inquiries about the EIS can be sent to i399094@dot.wi.gov. A public Web site will be maintained for the EIS to provide information about the project and allow for on-line public comment (www.i399094@dot.wi.gov). To ensure the full range of issues related to the proposed action are addressed and all significant issues identified, comments and suggestions are invited from all interested parties. Comments and questions concerning the proposed action and this notice should be directed to the FHWA address provided above.

Projects receiving Federal funds must comply with Title VI of the Civil Rights Act, and Executive Order 12898 “Federal Actions to Address Environmental Justice in Minority Populations and Low-Income Populations.” Federal law prohibits discrimination on the basis of race, color, age, sex, or country of national origin in the implementation of this project. It is also Federal policy to identify and address any disproportionately high and adverse effects of federal projects on the health or environment of minority and low-income populations to the greatest extent practicable and permitted by law.

(Catalog of Federal Domestic Assistance Program Number 20.205, Highway Planning and Construction. The regulations implementing Executive Order 12372 regarding intergovernmental consultation on Federal programs and activities apply to this program.)

Issued on: November 12, 2014.
Johnny M. Gerbitz,
Field Operations Engineer, Federal Highway Administration, Madison, Wisconsin.

[FR Doc. 2014-27476 Filed 11-19-14; 8:45 am]

BILLING CODE 4910-22-P